GENERAL SERVICES ADMINISTRATION

[OMB Control No. 3090-0027]

Submission for OMB Review; Comment Request Entitled GSAM, Part 542, Contract Administration, and Part 546, Quality Assurance

AGENCY: Acquisition Policy, GSA.

ACTION: Notice of a request for an extension to an existing OMB clearance.

SUMMARY: Under the provisions of the Paperwork Act of 1995 (44 U.S.C. Chapter 35), the General Services Administration (GSA) has submitted to the Office of Management and Budget (OMB) a request to review and approve an extension of a previously approved information collection requirement concerning GSAM, Part 542, Contract Administration, and Part 546, Quality Assurance.

DATES: Comments may be submitted on or before September 17, 2001.

FOR FURTHER INFORMATION CONTACT: Linda Klein, Acquisition Policy Division, GSA (202) 501-3775.

ADDRESSES: Comments regarding this burden estimate or any other aspect of this collection of information, including suggestions for reducing this burden, should be submitted to: Edward Springer, GSA Desk Officer, OMB, Room 10236, NEOB, Washington, DC, 20503, and a copy to Stephanie Morris, General Services Administration (MVP), 1800 F Street, NW., Room 4035, Washington, DC 20405.

SUPPLEMENTARY INFORMATION:

A. Purpose

The General Services Administration is requesting the Office of Management and Budget (OMB) to review and approve information collection, 3090-0027, concerning GSAM, Part 542, Contract Administration, and Part 546, Quality Assurance. Under certain contracts, because of reliance on contractor inspection in lieu of Government inspection. GSA's Federal Supply Service (FSS) requires documentation from its contractors to effectively monitor contractor performance and ensure that it will be able to take timely action should that performance be deficient.

B. Annual Reporting Burden

Respondents: 4604.

Annual Responses: 116,869.

Burden Hours: 7830.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0027, GSAM, Part 542, Contract Administration, and Part 456, Quality Assurance, in all correspondence.

Dated: July 3, 2001.
Gloria M. Sochon,
Acting Deputy Associate Administrator, Office of Acquisition Policy.

[FR Doc. 01-17754 Filed 7-16-01; 8:45 am]

BILLING CODE 6820-61-M